DEPARTMENT OF ENERGY

Federal Energy Regulatory Commission

Combined Notice of Filings #1

Take notice that the Commission received the following electric rate filings:

Docket Numbers: ER10-2294-003; ER11-3808-002; ER11-3980-002.

Applicants: ORNI 18 LLC, ORNI 39 LLC, ORNI 14 LLC.

Description: Notice of Non-Material Change-in-Status of ORNI 18 LLC, et al.

Filed Date: 12/21/12.

Accession Number: 20121221-5316.

Comments Due: 5 p.m. ET 1/11/13.

Docket Numbers: ER10-3063-001.

Applicants: Green Country Energy, LLC.

Description: Green Country Energy, LLC submits Triennial Market Power Update for the Southwest Power Pool, Inc. Region.

Filed Date: 12/21/12.

Accession Number: 20121221-5186.

Comments Due: 5 p.m. ET 2/19/13.

Docket Numbers: ER12-574-000.

Applicants: ITC Midwest LLC.

Description: Filing of a Refund Report to be effective N/A.

Filed Date: 12/21/12.

Accession Number: 20121221-5148.

Comments Due: 5 p.m. ET 1/11/13.

Docket Numbers: ER12-718-003.

Applicants: PJM Interconnection, L.L.C. and New York Independent System Operator, Inc.

Description: Joint Waiver Request of PJM Interconnection, L.L.C. and New York Independent System Operator, Inc.

Filed Date: 12/24/12.

Accession Number: 20121224-5111.

Comments Due: 5 p.m. ET 1/4/13.

Docket Numbers: ER12-2178-003; ER10-2172-014; ER11-2016-009; ER10-2184-014; ER10-2183-011; ER10-1048-011; ER10-2176-015; ER10-2192-014; ER11-2056-008; ER10-2178-014; ER10-2174-014; ER11-2014-011; ER11-2013-011; ER10-3308-013; ER10-1020-010; ER10-1145-010; ER10-1144-009; ER10-1078-010; ER10-1080-010; ER11-2010-011 ER10-1081-010; ER10-2180-014; ER11-2011-010; ER12-2528-002; ER11-2009-010; ER10-1143-010; ER12-1829-003 ER11-2007-009; ER12-1223-008; ER11-2005-011.

Applicants: AV Solar Ranch 1, LLC, Baltimore Gas and Electric Company, Cassia Gulch Wind Park, CER Generation, LLC, CER Generation II, LLC, Commonwealth Edison Company, Constellation Energy Commodities Group, Inc, Constellation Energy Commodities Group Maine, LLC, Constellation Mystic Power, LLC, Constellation NewEnergy, Inc., Constellation Power Source Generation, Inc., Cow Branch Wind Power, L.L.C., CR Clearing, LLC, Criterion Power Partners, LLC, Exelon Framingham LLC, Exelon Generation Company, LLC, Exelon New Boston, LLC, Exelon West Medway, LLC, Exelon Wind 4, LLC, Handsome Lake Energy, LLC, Harvest WindFarm, LLC, High Mesa Energy, LLC, Michigan Wind 1, LLC, PECO Energy Company, Shooting Star Wind Project, LLC, Tuana Springs Energy, LLC, Wildcat Wind, LLC, Wind Capital Holdings, LLC, Exelon Wyman, LLC.

Description: Updated Market Power Analysis of AV Solar Ranch 1, LLC, et al. for the Southwest Power Pool Inc. Region.

Filed Date: 12/21/12.

Accession Number: 20121221-5329.

Comments Due: 5 p.m. ET 2/19/13.

Docket Numbers: ER12-2701-001.

Applicants: Pacific Gas and Electric Company.

Description: Transmission Owner Rate Case 2013 (TO14) Compliance Filing to be effective 5/1/2013.

Filed Date: 12/21/12.

Accession Number: 20121221-5070.

Comments Due: 5 p.m. ET 1/11/13.

Docket Numbers: ER13-263-001.

Applicants: Midwest Independent Transmission System Operator, Inc.

Description: 12-21-12 Attachment MM Amendment to be effective 1/1/2013.

Filed Date: 12/21/12.

Accession Number: 20121221-5302.

Comments Due: 5 p.m. ET 1/11/13.

Docket Numbers: ER13-286-001.

Applicants: AEP Generating Company.

Description: Unit Power Agreements Amendment of Pending to be effective 12/31/2012.

Filed Date: 12/21/12.

Accession Number: 20121221-5098.

Comments Due: 5 p.m. ET 1/11/13.

Docket Numbers: ER13-534-001.

Applicants: Mammoth One, LLC.

Description: Mammoth One LLC Amendment to Petition to be effective 2/1/2013.

Filed Date: 12/21/12.

Accession Number: 20121221-5173.

Comments Due: 5 p.m. ET 1/11/13.

Docket Numbers: ER13-613-000.

Applicants: Pacific Gas and Electric Company.

Description: Transmission Access Charge Balancing Account Adjustment (TACBAA) 2013 to be effective 5/1/2013.

Filed Date: 12/21/12.

Accession Number: 20121221-5114.

Comments Due: 5 p.m. ET 1/11/13.

Docket Numbers: ER13-614-000.

Applicants: Kincaid Generation, L.L.C.

Description: Initial Rate Schedules (35.12) to be effective 3/1/2013.

Filed Date: 12/21/12.

Accession Number: 20121221-5215.

Comments Due: 5 p.m. ET 1/11/13.

Docket Numbers: ER13-615-000.

Applicants: High Mesa Energy, LLC.

Description: Compliance Filing of Revised Market-Based Rate Tariff to be effective 1/1/2013.

Filed Date: 12/21/12.

Accession Number: 20121221-5245.

Comments Due: 5 p.m. ET 1/11/13.

Docket Numbers: ER13-616-000.

Applicants: Pacific Gas and Electric Company.

Description: Existing Transmission Contract (ETC) Rate Filing 2013 to be effective 3/1/2013.

Filed Date: 12/21/12.

Accession Number: 20121221-5258.

Comments Due: 5 p.m. ET 1/11/13.

Docket Numbers: ER13-616-001.

Applicants: Pacific Gas and Electric Company.

Description: Existing Transmission Contract (ETC) Rate Filing 2013, First Amendment to be effective 3/1/2013.

Filed Date: 12/21/12.

Accession Number: 20121221-5301.

Comments Due: 5 p.m. ET 1/11/13.

Docket Numbers: ER13-616-002.

Applicants: Pacific Gas and Electric Company.

Description: Existing Transmission Contract (ETC) Rate Filing 2013, Second Amendment to be effective 3/1/2013.

Filed Date: 12/21/12.

Accession Number: 20121221-5303.

Comments Due: 5 p.m. ET 1/11/13.

Docket Numbers: ER13-617-000.

Applicants: Shooting Star Wind Project, LLC.

Description: Compliance Filing of Revised Market-Based Rate Tariff to be effective 1/1/2013.

Filed Date: 12/21/12.

Accession Number: 20121221-5267.

Comments Due: 5 p.m. ET 1/11/13.

Docket Numbers: ER13-618-000.

Applicants: WPS Westwood Generation, LLC.

Description: Notice of Non-Material Change to be effective 12/20/2012.

Filed Date: 12/21/12.

Accession Number: 20121221-5272.

Comments Due: 5 p.m. ET 1/11/13.

Docket Numbers: ER13-619-000.

Applicants: PacifiCorp.

Description: BPA General Transfer Agreement (West) to be effective 12/31/2012.

Filed Date: 12/21/12.

Accession Number: 20121221-5284.

Comments Due: 5 p.m. ET 1/11/13.

Docket Numbers: ER13-620-000.

Applicants: Northern States Power Company, a Wisconsin corporation.

Description: 20121221_G3_Bloomer_ESA to be effective 12/21/2012.

Filed Date: 12/24/12.

Accession Number: 20121224-5000.

Comments Due: 5 p.m. ET 1/14/13.

Docket Numbers: ER13-621-000.

Applicants: Pacific Gas and Electric Company.

Description: CCSF IA-2013 Annual Transmission Rate Adjustment to be effective 1/1/2013.

Filed Date: 12/24/12.

Accession Number: 20121224-5001.

Comments Due: 5 p.m. ET 1/14/13.

Docket Numbers: ER13-622-000.

Applicants: Pacific Gas and Electric Company.

Description: 2nd Amendment to Extend the PG&E-SVP Interconnection Agreement to be effective 2/28/2013.

Filed Date: 12/24/12.

Accession Number: 20121224-5002.

Comments Due: 5 p.m. ET 1/14/13.

Take notice that the Commission received the following electric securities filings:

Docket Numbers: ES13-12-000.

Applicants: ITC Midwest LLC.

Description: ITC Midwest LLC submits Application Under Section 204 of the Federal Power Act for Authorization to Issue Debt Securities.

Filed Date: 12/21/12.

Accession Number: 20121221-5318.

Comments Due: 5 p.m. ET 1/11/13.

Take notice that the Commission received the following foreign utility company status filings:

Docket Numbers: FC13-1-000; FC13-2-000; FC13-3-000; FC13-4-000; FC13-5-000; FC13-6-000.

Applicants: Pacific Northern Gas Ltd., AtlaGas Utilities Inc., Heritage Gas Ltd., McNair Creek Hydro Limited Partnership, AtlaGas Pipeline Partnership, Bear Mountain Wind Limited Partnership.

Description: Self-Certification of foreign utility company subsidiaries of AltaGas Ltd.

Filed Date: 12/21/12.

Accession Number: 20121221-5042.

Comments Due: 5 p.m. ET 1/11/13.

Take notice that the Commission received the following public utility holding company filings:

Docket Numbers: PH13-6-000.

Applicants: Enbridge Inc.

Description: Enbridge Inc. submits FERC-65B Waiver Notification, et al.

Filed Date: 12/21/12.

Accession Number: 20121221-5327.

Comments Due: 5 p.m. ET 1/11/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 26, 2012.
Nathaniel J. Davis, Sr.,
Deputy Secretary.

[FR Doc. 2012-31580 Filed 1-2-13; 8:45 am]

BILLING CODE 6717-01-P